BUREAU OF CONSUMER FINANCIAL PROTECTION

[Docket No: CFPB-2018-0016]

Privacy Act of 1974; System of Records

AGENCY: Bureau of Consumer Financial Protection.

ACTION: Notice of a Modified System of Records.

SUMMARY: In accordance with the Privacy Act of 1974, as amended, the Bureau of Consumer Financial Protection (Bureau), gives notice of the establishment of a modified Privacy Act System of Records.

DATES: Comments must be received no later than August 13, 2018. The Modification will be effective on August 13, 2018 unless the comments received result in a contrary determination.

ADDRESSES: You may submit comments, identified by the title and docket number (see above), by any of the following methods:

• Electronic: privacy@cfpb.gov or http://www.regulations.gov. Follow the instructions for submitting comments.

• Mail: Claire Stapleton, Chief Privacy Officer, Bureau of Consumer Financial Protection, 1700 G Street NW, Washington, DC 20552.

• Hand Delivery/Courier: Claire Stapleton, Chief Privacy Officer, Bureau of Consumer Financial Protection, 1700 G Street NW, Washington, DC 20552.

Instructions: The Bureau encourages the early submission of comments. Because paper mail in the Washington, DC area and at the Bureau is subject to delay, commenters are encouraged to submit comments electronically. In general, all comments received will be posted without change to http://www.regulations.gov. In addition, comments will be available for public inspection and copying at 1700 G Street NW, Washington, DC 20552, on official business days between the hours of 10 a.m. and 5 p.m. eastern time. You can make an appointment to inspect the documents by telephoning 202-435-7220.

All comments, including attachments and other supporting materials, will become part of the public record and subject to public disclosure. Proprietary information or sensitive personal information, such as account numbers or Social Security numbers, or names of other individuals, should not be included. Submissions will not be edited to remove any identifying or contact information.

FOR FURTHER INFORMATION CONTACT: Claire Stapleton, Chief Privacy Officer, at (202) 435-7220. If you require this document in an alternative electronic format, please contact CFPB_Accessibility@cfpb.gov.

SUPPLEMENTARY INFORMATION: The Bureau revises its Privacy Act System of Records Notice (“SORN”) CFPB.005—Consumer Response System. In revising this SORN, the Bureau modifies the authorized purposes for this system, the categories of individuals covered by this system, and categories of records in this system, to reflect Bureau activities using personally identifiable information in this system of records relating to quality control and consumer education and engagement efforts. The Bureau also modifies the policies and practices for the retrieval of records in this system to reflect that records may be retrieved by an individual's email address in addition to the methods for retrieval previously listed.

The report of the modified systems of records has been submitted to the Committee on Oversight and Government Reform of the House of Representatives, the Committee on Homeland Security and Governmental Affairs of the Senate, and the Office of Management and Budget, pursuant to OMB Circular A-108, “Federal Agency Responsibilities for Review, Reporting, and Publication under the Privacy Act” and the Privacy Act, 5 U.S.C. 552a(r).

SYSTEM NAME AND NUMBER:

CFPB.005—CFPB Consumer Response System.

SECURITY CLASSIFICATION:

This information system does not contain any classified information or data.

SYSTEM LOCATION:

Bureau of Consumer Financial Protection, 1700 G Street NW, Washington, DC 20552.

SYSTEM MANAGER(S):

Office of Consumer Response, Product Section Chief, Bureau of Consumer Financial Protection, Division of Consumer Education and Engagement, Office of Consumer Response, 1700 G Street NW, Washington DC 20552, (855) 411-2372.

PURPOSE(S) OF THE SYSTEM:

The information in the system is being collected to enable the Bureau to receive, respond to, and refer complaints or inquiries regarding consumer financial products or services. The system serves as a record of the complaint or inquiry, and is used for collecting complaint or inquiry data; responding to or referring the complaint or inquiry; aggregating data that will be used to inform other functions of the Bureau and, as appropriate, other agencies and/or the public; providing related educational and informational content; and preparing reports as required by law. The information will also be used for administrative purposes to ensure quality control, performance, and improving management processes. This system consists of complaints or inquiries received by the Bureau or other entities and information concerning responses to or referrals of these complaints or inquiries, as appropriate.

CATEGORIES OF INDIVIDUALS COVERED BY THE SYSTEM:

Individuals covered by this system are individuals who submit complaints or inquiries to the Bureau (on their own or others' behalf), individuals on whose behalf complaints or inquiries are submitted by others (such as attorneys, members of Congress, third party advocates, and/or other governmental organizations); individuals who are the subjects of complaints by virtue of their engagement in business as a sole proprietor, and individuals from other Federal, State agencies, or the Bureau with whom the Bureau shares data. This includes complaints or inquiries received by prudential regulators, Federal Trade Commission, other Federal agencies, State agencies, or the Bureau. The term “prudential regulators” refers to any Federal banking agency, as that term is defined in section 3 of the Federal Deposit Insurance Act, and the National Credit Union Administration. Information collected regarding consumer products and services is subject to the Privacy Act only to the extent that it concerns individuals; information pertaining to corporations and other business entities and organizations is not subject to the Privacy Act. Other individuals covered by this system include employees, contractors, or others at the Bureau who work in or with the Office of Consumer Response.

CATEGORIES OF RECORDS IN THE SYSTEM:

Records in the system may contain: (1) Correspondence or other information received; (2) information from the entity or individual referring the inquiry or complaint; (3) records created of verbal communications by or with complainants or other individuals; (4) information regarding third party advocates or others who submit complaints or inquiries on another's behalf; (5) information identifying the entity that is the subject of the complaint or inquiry or its employees; (6) communication with or by the entity that is the subject of the complaint or inquiry or its employees; (7) unique identifiers, codes, and descriptors categorizing each complaint or inquiry file; (8) information about how complaints or inquiries were responded to or referred, including any resolution; (9) records used to respond to or refer complaints or inquiries, including information in the Bureau's other systems of records; (10) identifiable information regarding both the individual who is making the inquiry or complaint, and the individual on whose behalf such inquiry or complaint is made, and employees of the entity about which the complaint or inquiry was made, including name, Social Security number, account numbers, address, phone number, email address, date of birth; and (11) identifiable information regarding an employee, contractor, or others at the Bureau who access the system, including their name and any login information used to access the consumer response system.

POLICIES AND PRACTICES FOR RETRIEVAL OF RECORDS:

Records are retrievable by a variety of fields including without limitation the individual's name, Social Security number, complaint/inquiry case number, address, account number, transaction number, phone number, email address, date of birth, or by some combination thereof.

HISTORY:

79 FR 21440 (Apr. 16, 2014) (CFPB.005 CFPB Consumer Response System).

Dated: July 5, 2018.
Claire Stapleton,
Chief Privacy Officer, Bureau of Consumer Financial Protection.

[FR Doc. 2018-14990 Filed 7-12-18; 8:45 am]

BILLING CODE 4810-AM-P